DEPARTMENT OF TRANSPORTATION

[Docket No. DOT-OST-2022-0047]

Construction Materials Used in Federal Financial Assistance Projects for Transportation Infrastructure in the United States Under the Build America, Buy America Act; Request for Information

Correction

In notice document 2022-16151, appearing on pages 45396-45399, in the Issue of Thursday, July 28, 2022, make the following correction.

On page 45396, in the DATES: section, the date “August 12, 2022” should read “August 18, 2022”.

[FR Doc. C1-2022-16151 Filed 8-5-22; 4:15 pm]

BILLING CODE 0099-10-D